DEPARTMENT OF TRANSPORTATION

Federal Aviation Administration

Notice of Availability of the Final Environmental Impact Statement Containing a DOT Section 4(f)/303(c) Evaluation for a Proposed Replacement Airport for the City of St. George, UT

AGENCY: The lead federal agency is the Federal Aviation Administration (FAA), DOT. The National Park Service (NPS) is a cooperative Federal agency.

ACTION: Notice of Availability of the Final Environmental Impact Statement.

SUMMARY: The Federal Aviation Administration (FAA) is issuing this Notice of Availability to advise the public that a Final Environmental Impact Statement (FEIS) containing a DOT section 4(f)/303(c) evaluation has been prepared for the proposed replacement airport for the City of St. George, Utah. The FEIS will be available for public review beginning May 19, 2006. The FAA will accept comments on new and/or revised/updated information and analyses disclosed in Appendix T through Y and in Chapter 6, section 6.4, Air Quality, until 5 p.m. Pacific Daylight Time, Monday, July 3, 2006, at the address listed in the section entitled: FOR FURTHER INFORMATION CONTACT.

The FEIS addresses the environmental impacts associated with the development of a replacement airport for St. George Municipal Airport in the City of St. George, Washington City, and Washington County, Utah. The FEIS is submitted for review pursuant to major environmental directives to comply with NEPA: Section 102(2)(c) of the National Environmental Policy Act of 1969 (Pub. L. 91-190); and other applicable Federal and state environmental laws, regulations, Executive Orders, and statutes.

The FAA will not make a decision on the proposed action for a minimum of 45 days following the publishing of the Notice of Availability of the FEIS in the Federal Register. The FAA will record the appropriate decision or decisions in a Record of Decision.

FOR FURTHER INFORMATION CONTACT: Mr. T.J. Stetz, Regional Environmental Protection Specialist, Federal Aviation Administration, Northwest Mountain Region, Airports Division, 1601 Lind Avenue, SW., Suite 315, Renton, Washington 98055-4056; telephone: (425) 227-2611; fax: (425) 227-1600; and e-mail: TJ.Stetz@faa.gov

Public Availability: Copies of the FEIS may be viewed during regular business hours at the following locations:

1. Cedar City Library, 303 North 100 East, Cedar City, UT 84720.

2. Hurricane Valley Branch, 36 South 300 West, Hurricane, UT 84737.

3. Santa Clara Branch, 1099 North Lava flow Drive, St. George, UT 84770.

4. Springdale Branch, 898 Zion Park Blvd, Springdale, UT 84767-0509.

5. Washington County, 50 South Main, St. George, UT 84770.

A limited number of copies of the FEIS and related documents also will be available for review by appointment only at the following FAA or City of St. George offices:

1. FAA, Northwest Mountain Region Office, 1601 Lind Avenue, SW., Suite 315, Renton, WA 98055, (425) 227-2611.

2. FAA, Denver Airports District Office, 26805 East 68th Avenue, Suite 224, Denver, CO 80249, (303) 342-1252.

3. St. George Municipal Building, 175 East 200 North, St. George, UT 84770, (435) 634-5800.

4. St. George Airport, 620 S. Airport Road, St. George, UT 84770, (435) 634-5822.

An electronic copy of the FEIS also will be available as of May 19, 2006, on the project Web site and can be accessed at http://www.airportsites.net/squ-eis.

SUPPLEMENTARY INFORMATION: The City of St. George, operator of the existing St. George Municipal Airport, has submitted an Airport Layout Plan, as revised, for approval. This FEIS assesses the potential impacts that may result from the development of a replacement airport with a 9,300-foot Runway 01/19 and all support facilities (i.e., taxiways and associated lighting and navigational aids; a passenger terminal, apron, and associated parking; an aircraft rescue and fire-fighting (ARFF) facility; facilities for general aviation, fixed-base operator, corporate aviation, and air cargo; fuel farm facilities; airport maintenance facilities; and airport access to the Southern Corridor Highway). This FEIS also assesses the Federal action regarding installation of navigational aids, airspace use, and approach and departure procedures. One historic site, Little Black Mountain Petroglyphs, would potentially be affected. This document also assesses the potential noise impact on Zion National Park, and 42 other potentially noise-sensitive properties in the vicinity.

The FEIS details the proposed development of a replacement airport and related facilities for the City of St. George, Utah, and addresses the environmental impacts associated with its development. The FEIS presents the purpose and need for the proposed project, an analysis of the alternatives to the proposed project, and potential environmental impacts associated with the development of the proposed replacement airport.

Information and analyses have been added, updated and/or refined in the FEIS to comply with particular aspects of federal law and regulation and in response to comments. That information and analyses are presented in the FEIS in Appendices T through Y, and Chapter 6, section 6.4, Air Quality.

Issued in Renton, Washington, on May 10, 2006.
Lowell H. Johnson,
Manager, Airports Division, Northwest Mountain Region.

[FR Doc. 06-4410 Filed 5-11-06; 8:45 am]

BILLING CODE 4910-13-M